DEPARTMENT OF COMMERCE

National Technical Information Service

Proposed Information Collection; Comment Request; Limited Access Death Master File Subscriber Certification Form

AGENCY: National Technical Information Service, Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 24, 2020.

ADDRESSES: Direct all written comments to John W. Hounsell, Program Manager, Office of Program Management, National Technical Information Service, Department of Commerce, 5301 Shawnee Road, Alexandria, VA 22312 (or at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to John W. Hounsell, at email: jhounsell@ntis.gov or telephone: 703-605-6184.

SUPPLEMENTARY INFORMATION:

I. Abstract

This notice informs the public that the National Technical Information Service (NTIS) is requesting the renewal of an information collection described in Section II for use in connection with the final rule entitled “Certification Program for Access to the Death Master File.” The final rule was published on June 1, 2016 and became effective on November 28, 2016. The information collection described in Section II, was approved and became effective on January 3, 2017.

II. Method of Collection

Title of Information Collection: “Limited Access Death Master File Certification Form” (Certification Form).

Description of the need for the information and the proposed use: NTIS issued a final rule establishing a program through which persons may become eligible to obtain access to Death Master File (DMF) information about an individual within three years of that individual's death (81 FR 34882, June 1, 2016). The final rule was promulgated under Section 203 of the Bipartisan Budget Act of 2013, Public Law 113-67 (Act). The Act prohibits the Secretary of Commerce (Secretary) from disclosing DMF information during the three-year period following an individual's death (Limited Access DMF), unless the person requesting the information has been certified to access the Limited Access DMF pursuant to certain criteria in a program that the Secretary establishes. The Secretary delegated the authority to carry out Section 203 to the Director of NTIS.

The final rule requires that a Person seeking access to the Limited Access Death Master File establish a legitimate fraud prevention interest or legitimate business purpose pursuant to a law, governmental rule, regulation, or fiduciary duty. The Certification Form collects information that NTIS will use to evaluate whether the respondent qualifies to receive the Limited Access Death Master File under the rule.

III. Data

OMB Control Number: 0692-0013.

Form Number(s): NTIS FM161.

Type of Review: Regular submission. Renewal of currently approved collection.

Affected Public: Members of the public seeking certification or renewal of certification for access to the Limited Access Death Master File under the final rule for the “Certification Program for Access to the Death Master File.”

Estimated Number of Respondents: NTIS expects to receive approximately 250 applications and renewals for certification every year.

Estimated Time per Response: 2.5 hours.

Estimated Total Annual Burden Hours: 625 (250 × 2.5 hour = 625 hours).

Estimated Total Annual Cost to Public: NTIS expects to receive approximately 250 applications annually at a fee of $2,930 per application, for a total cost to the public of $732,500. In addition, NTIS expects that preparation of the application will require a senior administrative staff person 2.5 hours at a rate of $100/hour, for a total cost to the public of $62,500 (625 total burden hours × $100/hour = $62,500). NTIS estimates the total annual cost to the public to be $795,000 ($732,500 in fees + $62,500 in staff time = $795,000). The total annual cost reflects the cost to the Federal Government, which consists of the expenses associated with NTIS personnel reviewing and processing the Certification Application Forms.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including the potential use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-25431 Filed 11-22-19; 8:45 am]

BILLING CODE 3510-04-P